DEPARTMENT OF HOMELAND SECURITY

Coast Guard

[Docket No. USCG-2008-1183]

Accounting of Recreational Boating Safety Projects, Programs and Activities Funded Under Provisions of the Transportation Equity Act for the 21st Century

AGENCY: Coast Guard, DHS.

ACTION: Notice.

SUMMARY: In 1999, the Transportation Equity Act for the 21st Century made $5 million available to the Secretary of Homeland Security for payment per year of Coast Guard expenses for personnel and activities directly related to coordinating and carrying out the national recreational boating safety program. In 2005, the law was amended and the amount was increased to $5.5 million. The Coast Guard is publishing this notice published to satisfy a requirement of the Act that a detailed accounting of the projects, programs, and activities funded under the national recreational boating safety program provision of the Act be published annually in the Federal Register. In this notice, we have specified the amount of monies the Coast Guard has committed, obligated, or expended during fiscal year 2008, as of September 30, 2008.

FOR FURTHER INFORMATION CONTACT: Jeff Ludwig, Regulations Development Manager, telephone 202-372-1062, fax 202-372-1932.

Background and Purpose: The Transportation Equity Act for the 21st Century became law on June 9, 1998 (Pub. L. 105-178; 112 Stat. 107). The Act required that of the $5 million made available to carry out the national recreational boating safety program each year, $2 million shall be available only to ensure compliance with Chapter 43 of Title 46, U.S. Code—Recreational Vessels. On September 29, 2005, the Sportfishing and Recreational Boating Safety Amendments Act of 2005 was enacted (Pub. L. 109-74; 119 Stat. 2031). This Act increased the funds available to the national recreational boating safety program from $5 million to $5.5 million annually, and stated that “not less than” $2 million shall be available only to ensure compliance with Chapter 43 of Title 46, U.S. Code—Recreational Vessels.

The responsibility to administer these funds was delegated to the Commandant of the United States Coast Guard. Subsection (c) of section 7405 of the Act directs that no funds available to the Secretary under this subsection may be used to replace funding traditionally provided through general appropriations, nor for any purposes except those purposes authorized; namely, for personnel and activities directly related to coordinating and carrying out the national recreational boating safety program. Amounts made available each fiscal year from 1999 through 2008 shall remain available until expended.

Use of these funds requires compliance with standard Federal contracting rules with associated lead and processing times resulting in a lag time between available funds and spending. The total amount of funding transferred to the Coast Guard from the Sport Fish Restoration and Boating Trust Fund and committed, obligated, and/or expended during fiscal year 2008 for each activity is shown below.

Factory Visit Program: Funding was provided to continue the national recreational boat factory visit program, initiated in January 2001. The factory visit program currently allows contractor personnel, acting on behalf of the Coast Guard, to visit 2,000 recreational boat manufacturers each year to either inspect for compliance with Federal regulations, communicate with the manufacturers as to why they need to comply with Federal regulations, or educate them, as necessary, on how to comply with Federal regulations. ($2,306,062).

Radar Reflective Gelcoat Testing: Funding was provided to Carderock Naval Surface Warfare Center to test and evaluate a newly developed coating that, when properly applied to fiberglass, should greatly increase the radar reflectivity of the fiberglass. If the test results prove positive, applying the radar reflective coating to fiberglass recreational boats would greatly increase the ability to detect these vessels using radar which would improve boating safety, would improve the ability to find boats in distress, would improve navigability of multiuse waterways, and would improve the ability to maintain security zones. ($58,000).

New Recreational Boating Safety Associated Travel: Travel by employees of the Boating Safety Division was performed to carry out additional recreational boating safety actions and to gather background and planning information for new recreational boating safety initiatives. ($10,469).

Boating Accident News Clipping Service: Funding was provided to continue to gather daily news stories of recreational boating accidents nationally for more real time accident information and to identify accidents that may involve regulatory non-compliances or safety defects. ($34,100).

Accident Investigation Tiger Team: Funding was provided to continue to provide on-call expert accident investigative services for any boating accident that appeared to involve a regulatory non-compliance or safety defect. ($104,120).

Web-Based Document Management System: Funding was provided to continue to provide a Web-based document management system to better enable the handling of thousands of recreational boating recall case and campaign reports. ($54,078).

Recreational Boating Safety (RBS) Outreach Program: Funding was provided for this program which provides full marketing, media, public information, and program strategy support to the nation-wide RBS effort. The goal is to coordinate the RBS outreach initiatives and campaigns some of which include: National Boating Under the Influence Campaign (BUI), “You're in Command. Boat Responsibly!”, PFD Wear, Vessel Safety Check Program (VSC), Boating Safety Education Courses, Propeller Strike Avoidance, Carbon Monoxide Poisoning, and other recreational boating safety issues on an as needed basis. ($865,875).

Boating Accident Report Database (BARD) Web System: BARD Web System funding enables reporting authorities in the 50 States, five U.S. Territories, and the District of Columbia to manage their accident reports electronically over a secure Internet environment. The system also enables the user community to generate statistical reports that show the frequency, nature, and severity of boating accidents. FY 08 funds supported system maintenance, development, and technical (hotline) support. ($462,586).

Personnel Support: Funding was provided for personnel to support the development of new regulations, to support new contracting activities associated with the additional funding, and to monitor and manage the contracts awarded. ($689,521).

Reimbursable Salaries: Funding was provided to carry out the work as prescribed in 46 U.S.C. 13106(c) and as described herein. The first function was that of a professional mathematician/statistician to conduct necessary national surveys and studies as well as to serve as a liaison to other Federal agencies that are conducting boating surveys so that we can pool our resources and reduce costs. The second function was that of Outreach coordinator for special RBS campaigns with responsibility of overseeing and managing all RBS related projects in support of `surge campaigns' for such elements as: Carbon monoxide poisoning, boating under the influence of alcohol or drugs, operation BoatSmart, etc. ($274,696).

Of the $5.5 million made available to the Coast Guard in fiscal year 2008, $2,854,920 has been committed, obligated, or expended and an additional $2,004,587 of prior fiscal year funds have been committed, obligated or expended, as of September 30, 2008. Approximately $8.8 million has not been committed, obligated, or expended from previous years, and is being reserved for a multi-year national boating survey.

Publication of this notice in the Federal Register satisfies the requirements of 46 U.S.C. 13107(c)(4). The Coast Guard has also submitted a copy of this notice for publication on http://www.Grants.gov.

Dated: March 11, 2009.
J.A. Watson,
Rear Admiral, U.S. Coast Guard, Director of Prevention Policy.

[FR Doc. E9-6807 Filed 3-25-09; 8:45 am]

BILLING CODE 4910-15-P